NUCLEAR REGULATORY COMMISSION

10 CFR Part 26

RIN 3150-AI94

[NRC-2011-0058]

Alternative to Minimum Days Off Requirements

AGENCY: Nuclear Regulatory Commission.

ACTION: Proposed rule; correction.

SUMMARY: The U.S. Nuclear Regulatory Commission (NRC) is correcting a proposed rule that appeared in the Federal Register on April 26, 2011 (76 FR 23208). The NRC is proposing to amend its regulations governing the fitness for duty of workers at nuclear power plants. This document corrects a typographical error in a Web site address.

FOR FURTHER INFORMATION CONTACT: Howard Benowitz, Office of the General Counsel, U.S. Nuclear Regulatory Commission, Washington DC 20555; telephone: 301-415-4060; e-mail: Howard.Benowitz@nrc.gov.

SUPPLEMENTARY INFORMATION: On page 23216, in the first column, the second sentence of the third paragraph is corrected to read: “The NRC Form 670 and proposed rule are available at the NRC's Web site: http://www.nrc.gov/public-involve/doc-comment/omb/index.html for 30 days after the signature date of this notice.

Dated at Rockville, Maryland, this 27th day of April 2011.
For the Nuclear Regulatory Commission.
Cindy Bladey,
Chief, Rules, Announcements and Directives Branch, Division of Administrative Services, Office of Administration.

[FR Doc. 2011-10647 Filed 5-2-11; 8:45 am]

BILLING CODE 7590-01-P